DEPARTMENT OF TRANSPORTATION

Federal Highway Administration

Environmental Impact Statement: Kane, Kendall, and Grundy Counties, IL

AGENCY: Federal Highway Administration (FHWA), DOT.

ACTION: Notice of intent.

SUMMARY: The FHWA is issuing this notice to advise the public that an Environmental Impact Statement (EIS) will be prepared for a proposed project in Kane, Kendall, and Grundy Counties, Illinois. The planned EIS will evaluate potential transportation improvement alternatives for serving north-south travel between Interstate 88 and Interstate 80.

FOR FURTHER INFORMATION CONTACT:

Norman R. Stoner, P.E., Division Administrator, Federal Highway Administration, 3250 Executive Park Drive, Springfield, Illinois 62703, Phone: (217) 492-4600.

John P. Kos, P.E., District Engineer, Illinois Department of Transportation, 700 East Norris Drive, Ottawa, Illinois 61350-0697, Phone: (815) 434-6131.

SUPPLEMENTARY INFORMATION: The FHWA, in cooperation with the Illinois Department of Transportation will prepare an Environmental Impact Statement (EIS) on potential transportation improvements to serve north-south travel between Interstate 88 and Interstate 80 in Kane, Kendall, and Grundy Counties. The project is commonly referred to as the Prairie Parkway project. The study area will include Kendall County (all), Kane County (townships within the area south of IL 64) and Grundy County (townships north of the Illinois River). The study area also will include portions of bordering counties, including: Will County (townships south of I-88 and west of I-55); La Salle County (townships adjacent to the eastern county limits and north of the Illinois River); and DeKalb County (townships adjacent to the eastern county limits and south of IL 64.

The proposed project is intended to improve regional mobility, address local road system deficiencies, improve access to regional jobs, and improve safety. Primary environmental resources that may be affected are: agricultural land, wetlands, and strems. Compatibility with local development plans and context sensitivity are important considerations.

Alternatives under consideration include the no action, transportation system management (TSM)/travel demand management (TDM), new freeway/expressway, existing arterial improvement, and transit alternatives. The mode, project type, location, and length of the alternatives evaluated will be identified based on the results of alternatives studies.

The scoping process undertaken as part of this proposed project will include distribution of a scoping information packet, coordination with appropriate Federal, State, and local agencies, including an agency scoping meeting to be held on October 13, 2004 at 10 a.m. at the Illinois Department of Transportation, 700 East Norris Drive, Ottawa, Illinois. A study group comprised of local officials, environmental organizations, and other community interest groups has been established to provide input during the development of the purpose and need and alternatives analyses. Further details of the proposed project and a scoping information packet may be obtained from one of the contact persons listed above.

To help ensure that the full range of issues related to this proposed project are identified and all substantive issues are addressed, a comprehensive public involvement program is underway. It includes meetings with advisory committees, resource agencies, local officials, and interest groups; public informational meetings and workshops; newsletters; an Internet web site; and focus groups. Public notice will be given of the time and the place of all public meetings and the public hearing. The Draft EIS will be available for public review, and comments and suggestions are invited from all interested parties.

Comments or questions concerning this proposed project and the Draft EIS should be directed to the FHWA or the Illinois Department of Transportation at the addresses provided above.

(Catalog of Federal Domestic Assistance Program Number 20.205, Highway Research, Planning and Construction. The regulations implementing Executive Order 12372 regarding intergovernmental consultation on Federal programs and activities apply to this program)
Dated: September 3, 2004.
J.D. Stevenson,
Environmental Programs Engineer, Federal Highway Administration, Springfield, Illinois.

[FR Doc. 04-20519 Filed 9-9-04; 8:45 am]

BILLING CODE 4910-22-M